JUDICIAL CONFERENCE OF THE UNITED STATES

Meeting of the Judicial Conference Committee on Rules of Practice and Procedure

AGENCY: Judicial Conference of the United States, Committee on Rules of Practice and Procedure.

ACTION: Notice of open meeting.

SUMMARY: The Committee on Rules and Practice and Procedure will hold a two-day meeting. The meeting will be open to public observation but not participation.

DATES: June 15-16, 2005.

Time: 8:30 a.m. to 5 p.m.

ADDRESSES: Boston College Law School, East Wing 200, 885 Centre Street, Newton, Massachusetts.

FOR FURTHER INFORMATION CONTACT: John K. Rabiej, Chief, Rules Committee Support Office, Administrative Office of the United States Courts, Washington, DC 20544, telephone (202) 502-1820.

Dated: March 15, 2005.
John K. Rabiej,
Chief, Rules Committee Support Office.

[FR Doc. 05-5599 Filed 3-21-05; 8:45 am]

BILLING CODE 2210-55-M